DEPARTMENT OF THE INTERIOR

Fish and Wildlife Service

Notice of Meeting of the Trinity Adaptive Management Working Group

AGENCY: Fish and Wildlife Service, Interior.

ACTION: Notice of meeting.

SUMMARY: Pursuant to section 10(a)(2) of the Federal Advisory Committee Act (5 U.S.C. App), this notice announces a meeting of the Trinity Adaptive Management Working Group (TAMWG). The TAMWG affords stakeholders the opportunity to give policy, management, and technical input concerning Trinity River restoration efforts to the Trinity Management Council. Primary objectives of the meeting will include: 2006 flow schedule; Trinity River Restoration Program science framework; Trinity River Restoration Program strategic plan; Federal tribal trust responsibilities; Exceedence criteria for water-year-type forecasting; Trinity River fishing regulations; request for special appropriation to complete floodplain preparations; reports from work groups; Executive director's report; education outreach; travel expense reimbursement; and Election of TAMWG officers. Completion of the agenda is dependent on the amount of time each item takes. The meeting could end early if the agenda has been completed. The meeting is open to the public.

DATES: The Trinity Adaptive Management Working Group will meet from 1 p.m. to 5 p.m. on Wednesday, March 22, 2006, and from 8:30 a.m. to 5 p.m. on Thursday, March 23, 2006.

ADDRESSES: The meeting will be held at the Veteran's Memorial Hall, 101 Memorial Lane, Weaverville, CA 96093. Telephone: (530) 623-1319.

FOR FURTHER INFORMATION CONTACT: Randy Brown of the U.S. Fish and Wildlife Service, Arcata Fish and Wildlife Office, 1655 Heindon Road, Arcata, California 95521, (707) 822-7201. Randy Brown is the working group's Designated Federal Official.

SUPPLEMENTARY INFORMATION: For background information and questions regarding the Trinity River Restoration Program, please contact Douglas Schleusner, Executive Director, Trinity River Restoration Program, P.O. Box 1300, 1313 South Main Street, Weaverville, California 96093, (530) 623-1800.

Dated: March 6, 2006.
John Enbring,
Acting Manager, California/Nevada Operations Office, Sacramento, CA.

[FR Doc. E6-3723 Filed 3-14-06; 8:45 am]

BILLING CODE 4310-55-P